DEPARTMENT OF LABOR

Employment and Training Administration

[TA-W-41,333]

BOC Edwards-Stokes Vacuum, Philadelphia, PA; Notice of Termination of Investigation

Pursuant to section 221 of the Trade Act of 1974, an investigation was initiated on April 15, 2002 in response to a petition that was filed by a company official on behalf of workers at BOC Edwards—Stokes Vacuum, Philadelphia, Pennsylvania.

The company official requested that the investigation be terminated. Consequently, further investigation in this case would serve no purpose, and the investigation has been terminated.

Signed in Washington, D.C. this 13th day of May, 2002.
Linda G. Poole,
Certifying Officer, Division of Trade Adjustment Assistance.

[FR Doc. 02-15448 Filed 6-18-02; 8:45 am]

BILLING CODE 4510-30-P